DEPARTMENT OF DEFENSE

Department of the Army, Corps of Engineers

Withdrawal of Notice of Intent To Prepare an Environmental Impact Statement

AGENCY: Department of the Army, U.S Army Corps of Engineers, DoD.

ACTION: Notice of withdrawal.

SUMMARY: The purpose of this notice is to inform the public that until the economic demand for improvements to the Sacramento River Deep Water Channel (SRDWSC) improves, the NEPA process has been terminated and notice to prepare an EIS and notice of availability are withdrawn.

DATES: Effective date of withdrawal is October 25, 2014.

FOR FURTHER INFORMATION CONTACT: William N. Brostoff, Environmental Planning, 1455 Market St., San Francisco, CA 94103. Telephone 415-503-6867; electronic mail: William.N.Brostoff@usace.army.mil.

SUPPLEMENTARY INFORMATION: On June 13, 2008 (73 FR 33807), the United States Army Corps of Engineers (USACE) in partnership with the Port of West Sacramento (Port) announced its intent to prepare a Draft Supplemental Environmental Impact Statement/Subsequent Environmental Impact Report (DSEIS/R) in accordance with the National Environmental Policy Act of 1969 (NEPA) to evaluate the action of resuming construction of navigational improvements to the SRDWSC. On February 25, 2011 (76 FR 10572), USACE and the Port announced the availability of the DSEIS/R. The DSEIS/R evaluated the potential environmental impacts associated with the proposed Federal action and reasonable alternatives. The purpose of the project was to resume deepening of the SRDWSC to its congressionally authorized depth to realize economic benefits resulting from transportation cost savings associated with moving goods to and from the Port. USACE and the Port might resume the NEPA process in the future should economic demand for the project improve.

John C. Morrow,
Lieutenant Colonel, U.S. Army, District Engineer.

[FR Doc. 2014-25767 Filed 10-29-14; 8:45 am]

BILLING CODE 3720-58-P